DEPARTMENT OF THE INTERIOR

Fish and Wildlife Service

[FWS-R9-SATD-2011-N079; FY10-90110-1420-0000]

National Fish, Wildlife, and Plants Climate Adaptation Strategy; Notice of Intent: Request for Information and Comments

AGENCY: Fish and Wildlife Service, Interior.

ACTION: Notice of intent.

SUMMARY: We, the U.S. Fish and Wildlife Service (Service), along with the National Oceanic and Atmospheric Administration (NOAA, Department of Commerce) and other Federal, State, and tribal partners, announce that we are seeking public comments and information necessary to prepare a draft National Fish, Wildlife, and Plants Climate Adaptation Strategy (Strategy). The Strategy will provide a unified approach—reflecting shared principles and science-based practices—for reducing the negative impacts of climate change on fish, wildlife, plants, habitats, and our natural resource heritage. It will serve as a valuable tool for Federal and State agencies, wildlife managers, tribes, and private landowners as they continue to manage their lands and natural resources in a changing environment.

DATES: To ensure that we are able to consider your comments and information as we develop our draft strategy document, please submit them on or before July 1, 2011 (see ADDRESSES).

We will release a draft Strategy in November 2011; at that time, we will allow additional opportunity for the public to provide comments. We expect to complete the final Strategy by May of 2012. Please visit the Strategy Web site at http://www.wildlifeadaptationstrategy.gov for announcements of upcoming public meetings and engagement opportunities, as well as additional materials and information.

ADDRESSES: Submit comments electronically through our website at http://www.wildlifeadaptationstrategy.gov/contact-us.php. Alternatively, you may send comments by U.S. mail to the Office of the Science Advisor, Attn: National Fish, Wildlife, and Plants Climate Adaptation Strategy, U.S. Fish and Wildlife Service, 4401 N. Fairfax Drive, Suite 222, Arlington, VA 22203.

FOR FURTHER INFORMATION CONTACT: Mark Shaffer, Office of the Science Advisor, at (703) 358-2603 (telephone), wildlifeadaptationstrategy@fws.gov (e-mail), or via the Strategy Web site at http://www.wildlifeadaptationstrategy.gov. If you use a telecommunications device for the deaf (TDD), please call the Federal Information Relay Service (FIRS) at (800) 877-8339.

SUPPLEMENTARY INFORMATION: In cooperation with NOAA and other Federal, State, and tribal partners, we intend to gather information necessary to prepare a National Fish, Wildlife, and Plants Climate Adaptation Strategy (Strategy). We are seeking public comment and information as we develop a draft Strategy.

The adverse impacts of climate change transcend political and administrative boundaries. No single entity or level of government can safeguard wildlife and society against the effects of climate change. This Strategy will provide a unified approach—reflecting shared principles and science-based practice—for reducing the negative impacts of climate change on fish, wildlife, plants, habitats, and our natural resource heritage. It will serve as a valuable tool for Federal and State agencies, wildlife managers, tribes, and private landowners as they continue to manage their lands and natural resources in a changing environment.

I. Background

Climate change affects more than temperature. According to the U.S. Global Change Research Program, impacts include shifts in rainfall and storm patterns, increasing wildfires and water shortages, as well as rising sea levels, loss of sea ice, ocean acidification, and coastal flooding and erosion. These changes are already having significant effects on fish, wildlife, and plants in the United States, necessitating new resource management approaches for climate adaptation.

Rapid warming may also begin to threaten the benefits that natural systems provide to people and communities, creating new challenges for human health, infrastructure, agriculture, transportation, and energy supplies. At risk are clean air and water; flood and erosion control; natural resource jobs and income; hunting, fishing, and wildlife-related recreation; and, ultimately, our quality of life.

Most simply, climate adaptation means helping people and natural systems prepare for and cope with the effects of a changing climate. Climate adaptation is an essential complement to climate change mitigation, or efforts to decrease the rate and extent of climate change through reducing greenhouse gas emissions or enhancing carbon uptake and storage. Coordinated adaptation planning can help limit the damage climate change causes to our natural resources and communities, and will require new approaches, additional resources, and a coordinated approach across Federal, State, and local partners.

II. Strategy Development

In response to increasing impacts of climate change and other stressors on America's natural resources, the U.S. Congress has called for the development of a national government-wide strategy to safeguard fish, wildlife, plants, and the natural systems upon which they depend. Language in the Conference Report for the Fiscal Year (FY) 2010 Interior, Environment and Related Agencies Appropriations Act (House Report 111-316, pages 76-77) urged the Council of Environmental Quality (CEQ) and the Department of the Interior (DOI) to “develop a national, government-wide strategy to address climate impacts on fish, wildlife, plants, and associated ecological processes” and “provide that there is integration, coordination, and public accountability to ensure efficiency and avoid duplication.” This national Strategy will set out a unified approach to maintaining the key terrestrial, freshwater, and marine ecosystems and species, as well as the services they provide, in the face of accelerating climate change.

In the fall of 2010, the U.S. Fish and Wildlife Service and CEQ invited NOAA and State wildlife agencies (with the New York Division of Fish, Wildlife and Marine Resources as the State agencies' lead representative) to co-lead the development of the strategy. The Association of Fish and Wildlife Agencies is also providing support through a Cooperative Agreement with the Service.

Initial public outreach during 2009 and 2010 contributed toward developing the following set of key principles to help guide this effort as it moves forward:

• Endorse a national (not Federal) framework for cooperative climate response;

• Focus on national boundaries while recognizing the international nature of natural resources;

• Embrace a philosophy of collaboration and interdependence;

• Adopt landscape-scale science and management approaches;

• Integrate adaptation and mitigation efforts; and

• Utilize an ecosystem-based management approach to sustain biodiversity and ecosystem services.

A diverse group of Federal, State, and tribal agencies have been asked to participate as members of an intergovernmental Steering Committee, to provide advice and support for development of the Strategy. The Steering Committee is being supported by a Management Team composed of staff from the Fish and Wildlife Service, NOAA, the Association of Fish and Wildlife Agencies, and tribal partners.

Five Technical Teams will take primary responsibility for developing the content of the Strategy, based around five ecosystem sections (marine, coastal, inland waters, forest, and grasslands/shrublands/deserts). Each team is made up of Federal, State, and tribal representatives. Key milestones are shown below:

• Begin Outreach and Engagement Sessions—2009/2010

• Form Steering Committee—December 2010

• Hold first Steering Committee meeting—January 2011

• Establish Technical Teams—February 2011

• Hold first Technical Team meeting—March 2011

• Complete Agency Review Draft—September 2011

• Announce Public Review Draft—November 2011

• Release Final Strategy—May 2012

Ultimately, the Strategy will be a blueprint for common action that outlines needed scientific support, policy, and legal frameworks; recommended management practices; processes for integration and communication; and a framework for implementing these approaches. It will enable national and international conservation communities to harness collective expertise, authority, and skills in order to define and prioritize a shared set of conservation goals and objectives.

III. Request for Public Comments

Public involvement is critical for the development of a robust and relevant response to the impacts of climate change. Extremely valuable to the effort are public guidance on priorities, recommendations for approaches, and suggestions and contribution of issues based on local knowledge and experience.

Initial outreach and planning for the Strategy began in 2009 and early 2010, with a number of listening and engagement sessions, as well as several Conservation Leadership Forums. More information about past engagement efforts, as well as upcoming meetings and engagement opportunities, is available at http://www.wildlifeadaptationstrategy.gov/participate.php.

We will be accepting initial public comments through our Web site until the date specified in DATES. We will also accept written comments at upcoming public meetings (dates and locations to be announced on our Web site).

To ensure that any action will be as effective as possible, we request that you send relevant information for our consideration. The comments that are most useful are those that you support by quantitative information or studies and those that include citations and analyses of applicable laws and regulations. Please make your comments as specific as possible and explain the bases for them. In addition, please include sufficient information with your comments to allow us to authenticate any scientific or commercial data you include.

You must submit your comments and materials by one of the methods listed above in the ADDRESSES section. We will not accept comments sent to an address not listed in ADDRESSES.

We are committed to transparency in developing and implementing the National Fish, Wildlife, and Plants Climate Adaptation Strategy. The Service, NOAA, and other partners will also actively engage interested parties, including, as appropriate, State, Tribal, and local authorities; regional governance structures; academic institutions; nongovernmental organizations; recreational interests; and private enterprise.

IV. Public Availability of Comments

Before including your address, phone number, e-mail address, or other personal identifying information in your comment, you should be aware that your entire comment—including your personal identifying information—may be made publicly available at any time. While you can ask us in your comment to withhold your personal identifying information from public review, we cannot guarantee that we will be able to do so.

Authority

Conference Report for the Interior, Environment and Related Agencies Appropriations Act, 2010.

Dated: May 10, 2011.
Gabriela Chavarria,
Science Advisor to the Director, U.S. Fish and Wildlife Service.

[FR Doc. 2011-12710 Filed 5-23-11; 8:45 am]

BILLING CODE 4310-55-P